DEPARTMENT OF LABOR

Mine Safety and Health Administration

[OMB Control No. 1219-0116]

Proposed Extension of Information Collection; Examinations and Testing of Electrical Equipment, Including Examination, Testing, and Maintenance of High Voltage Longwalls

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Mine Safety and Health Administration (MSHA) is soliciting comments on the information collection for Examinations and Testing of Electrical Equipment, Including Examination, Testing, and Maintenance of High Voltage Longwalls.

DATES: All comments must be received on or before September 22, 2023.

ADDRESSES: You may submit comment as follows. Please note that late, untimely filed comments will not be considered.

Electronic Submissions: Submit electronic comments in the following way:

• Federal E-Rulemaking Portal: http://www.regulations.gov. Follow the on-line instructions for submitting comments for docket number MSHA-2023-xxxx.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). This not a toll-free number.

SUPPLEMENTARY INFORMATION:

I. Background

Section 103(h) of the Federal Mine Safety and Health Act of 1977 (Mine Act) (Pub. L. 91-173, as amended by Pub. L. 95-164), 30 U.S.C. 813(h), authorizes the Mine Safety and Health Administration (MSHA) to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines.

Inadequate maintenance of electric equipment is a major cause of serious electrical accidents in the coal mining industry. It is imperative that mine operators adopt and follow an effective maintenance program to ensure that electric equipment is maintained in a safe operating condition to prevent electrocutions, mine fires, and mine explosions. MSHA regulations require the mine operator to establish an electrical maintenance program by specifying minimum requirements for the examination, testing, and maintenance of electric equipment. The regulations also contain recordkeeping requirements that help operators in implementing an effective maintenance program.

(a) Examinations of Electric Equipment

• Underground Coal Mines

(1) 30 CFR 75.512 requires that all electric equipment be frequently examined, tested, and maintained by a qualified person to assure safe operating conditions. When a potentially dangerous condition is found on electric equipment, such equipment shall be removed from service until such condition is corrected and that a record of such examinations be kept. 30 CFR 75.512-2 specifies that required examinations and tests be made at least weekly.

(2) 30 CFR 75.703-3(d)(11) requires that all grounding diodes be tested, examined, and maintained as electric equipment and records of these activities be kept in accordance with the provisions of 30 CFR 75.512.

• Surface Coal Mines and Surface Work Areas of Underground Coal Mines

(3) 30 CFR 77.502 requires that electric equipment be frequently examined, tested, and maintained by a qualified person to ensure safe operating conditions. When a potentially dangerous condition is found on electric equipment, such equipment shall be removed from service until such condition is corrected and that a record of such examinations be kept. 30 CFR 77.502-2 requires these examinations and tests at least monthly.

(b) Examinations of High-Voltage Circuit Breakers

• Underground Coal Mines

(1) 30 CFR 75.800 requires that circuit breakers protecting high-voltage circuits, which enter the underground area of a coal mine, be properly tested and maintained as prescribed by the Secretary. Such breakers must be equipped with devices to provide protection against under-voltage grounded phase, short circuit, and overcurrent. 30 CFR 75.800-3 requires that such circuit breakers be tested and examined at least once each month. Tests must include: (1) Breaking continuity of the ground check conductor, where ground check monitoring is used; and (2) Actuating at least two (2) of the auxiliary protective relays. Examination must include visual observation of all components of the circuit breaker and its auxiliary devices, and such repairs or adjustments as are indicated by such tests and examinations shall be carried out immediately. 30 CFR 75.800-4 requires that a record of the examinations and tests be made. These records must be made in a secure book that is not susceptible to alteration or electronically in a computer system so as to be secure and not susceptible to alteration. These records shall be retained at a surface location at the mine for at least one year and shall be made available to authorized representatives of the Secretary, the representative of miners, and other interested persons.

(2) 30 CFR 75.820 requires persons to lock-out and tag disconnecting devices when working on circuits and equipment associated with high-voltage longwalls.

(3) 30 CFR 75.821(a) requires testing and examination of each unit of high-voltage longwall equipment and circuits to determine that electrical protection, equipment grounding, permissibility, cable insulation, and control devices are being properly maintained to prevent fire, electrical shock, ignition, or operational hazards. These tests and examinations, including the activation of the ground-fault test circuit, are required once every seven days. 30 CFR 75.821(b) requires that each ground-wire monitor and associated circuits be examined and tested at least once every 30 days. 30 CFR 75.821(d) requires that, at the completion of examinations and tests, the person making the examinations and tests must certify that they have been conducted. In addition, a record must be made of any unsafe condition found and any corrective action taken. These certifications and records must be kept at least 1 year.

• Surface Coal Mines and Surface Work Areas of Underground Coal Mines

(4) 30 CFR 77.800 requires that circuit breakers protecting high-voltage portable or mobile equipment be properly tested and maintained. 30 CFR 77.800-1 requires that such circuit breakers be tested and examined at least once each month by a person qualified as provided in 77.103. Tests must include: (1) Breaking continuity of the ground check conductor where ground check monitoring is used; and (2) Actuating any of the auxiliary protective relays. Examination must include visual observation of all components of the circuit breaker and its auxiliary devices, and such repairs or adjustments as are indicated by such tests and examinations shall be carried out immediately. 30 CFR 77.800-2 requires a record of each test, examination, repair, or adjustment of all circuit breakers protecting high-voltage circuits. Such record must be kept in a book approved by the Secretary.

(c) Examinations of Low- and Medium-Voltage Circuits

• Underground Coal Mines

(1) 30 CFR 75.900 requires that circuit breakers protecting low- and medium-voltage power circuits serving three-phase alternating-current equipment be properly tested and maintained. 30 CFR 75.900-3 requires that such circuit breakers be tested and examined at least once each month by a person qualified as provided in 75.153. 30 CFR 75.900-4 requires the operator of any coal mine shall maintain a written record of each test, examination, repair, or adjustment of all circuit breakers protecting low- and medium-voltage circuits serving three-phase alternating current equipment used in the mine. Such record shall be kept in a book approved by the Secretary.

• Surface Coal Mines and Surface Work Areas of Underground Coal Mines

(2) 30 CFR 77.900 requires that circuit breakers protecting low- and medium-voltage circuits which supply power to portable or mobile three-phase alternating-current equipment be properly tested and maintained. 30 CFR 77.900-1 requires that such circuit breakers be tested and examined at least once each month by a person qualified as provided in 77.103. 30 CFR 77.900-2 requires that a record of the examinations and tests be made.

(d) Tests and Calibrations of Automatic Circuit Interrupting Devices

30 CFR 75.1001-1(b) requires that automatic circuit interrupting devices that protect trolley wires and trolley feeder wires be tested and calibrated at intervals not to exceed 6 months. An authorized representative of the Secretary may require additional testing or calibration of these devices. 30 CFR 75.1001-1(c) requires that a record of the tests and calibrations be kept.

II. Desired Focus of Comments

MSHA is soliciting comments concerning the proposed information collection related to Examinations and Testing of Electrical Equipment, Including Examination, Testing, and Maintenance of High Voltage Longwalls. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Examinations and Testing of Electrical Equipment, Including Examination, Testing, and Maintenance of High Voltage Longwalls. MSHA has updated the data with respect to the number of respondents, responses, burden hours, and burden costs supporting this information collection request from the previous information collection request.

Type of Review: Extension, without change, of a currently approved collection.

Agency: Mine Safety and Health Administration.

OMB Number: 1219-0116.

Affected Public: Business or other for-profit.

Number of Annual Respondents: 755.

Number of Annual Responses: 359,146.

Frequency: On occasion.

Annual Burden Hours: 67,313 hours.

Annual Respondent or Recordkeeper Cost: $0.

Comments submitted in response to this notice will be summarized in the request for Office of Management and Budget approval of the proposed information collection request; they will become a matter of public record and will be available at https://www.reginfo.gov.

Song-ae Aromie Noe,
Certifying Officer, Mine Safety and Health Administration.

[FR Doc. 2023-15583 Filed 7-21-23; 8:45 am]

BILLING CODE 4510-43-P